FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 3683F.

Name: Martin Strauss Air Freight Corp.

Address: P.O. Box 300666, JFK International Airport, Jamaica, NY 11434.

Date Revoked: May 27, 2003.

Reason: Surrendered license voluntarily.

License Number: 13475N.

Name: Triple Alliance Company, Inc.

Address: 177-25 Rockaway Blvd., Suite 204, Jamaica, NY 11434.

Date Revoked: May 29, 2003.

Reason: Surrendered license voluntarily.

License Number: 16483N.

Name: UniGlobal Logistics, Inc.

Address: 39 Old Ridgebury Road, Danbury, CT 07817.

Date Revoked: June 9, 2003.

Reason: Surrendered license voluntarily.

License Number: 4378NF.

Name: World 2000 Services, Inc.

Address: 8233 NW., 66th Street, Miami, FL 33166.

Date Revoked: May 21, 2003.

Reason: Surrendered license voluntarily.

Sandra L. Kusumoto,
Director, Bureau of Consumer Complaints, and Licensing.

[FR Doc. 03-15389 Filed 6-17-03; 8:45 am]

BILLING CODE 6730-01-P